DEPARTMENT OF THE INTERIOR

National Park Service

[NPS-WASO-NAGPRA-23011; PPWOCRADN0-PCU00RP14.R50000]

Notice of Inventory Completion: Department of the Interior, National Park Service, Grand Canyon National Park, Grand Canyon, AZ; Correction

AGENCY: National Park Service, Interior.

ACTION: Notice; correction.

SUMMARY: The U.S. Department of the Interior, National Park Service, Grand Canyon National Park, has corrected an inventory of human remains and associated funerary objects, published in a Notice of Inventory Completion in the Federal Register on April 10, 2013. This notice corrects the location from which the remains and objects were removed. Lineal descendants or representatives of any Indian tribe or Native Hawaiian organization not identified in this notice that wish to request transfer of control of these human remains and associated funerary objects should submit a written request to Grand Canyon National Park. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Grand Canyon National Park at the address in this notice by June 2, 2017.

ADDRESSES: Christine Lehnertz, Superintendent, Grand Canyon National Park, P.O. Box 129, Grand Canyon, AZ 86023, telephone (928) 638-7945, email chris_lehnertz@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Grand Canyon National Park, Grand Canyon, AZ. The human remains and associated funerary objects were removed from AZ A:13:0007, Mohave County, AZ.

This notice is published as part of the National Park Service's administrative responsibilities under NAGPRA, 25 U.S.C. 3003(d)(3). The determinations in this notice are the sole responsibility of the Superintendent, Grand Canyon National Park.

This notice corrects the location from which remains and objects were removed published in a Notice of Inventory Completion in the Federal Register (78 FR 21407-21408, April 10, 2013). It was recently discovered that information from two sites had been inadvertently combined into one record. Transfer of control of the items in this correction notice has not occurred.

Correction

In the Federal Register (78 FR 21407, April 10, 2013), column 1, paragraph 4, sentence 2, under the heading SUPPLEMENTARY INFORMATION is corrected by replacing “Muav Cave” with “site AZ A:13:0007.”

In the Federal Register (78 FR 21407, April 10, 2013), column 2, paragraph 1, sentence 1, under the heading “History and Description of the Remains”, is corrected by substituting the following sentence:

In 1965, human remains representing, at minimum, one individual were removed from site AZ A:13:0007 in Mohave County, AZ by river runner Bill Belknap and turned in to Bob Euler, Grand Canyon National Park Anthropologist.

In the Federal Register (78 FR 21407, April 10, 2013), column 2, paragraph 2, under the heading “History and Description of the Remains”, is corrected by deleting the entire paragraph.

In the Federal Register (78 FR 21407, April 10, 2013), column 2, paragraph 3, sentence 1, under the heading “History and Description of the Remains”, is corrected by substituting the following sentence:

The ceramics, which date to A.D. 900-1500, and lithics found at site AZ A:13:0007 are consistent with materials identified by archeologists as being associated with the Cerbat culture.

In the Federal Register (78 FR 21407, April 10, 2013), column 2, paragraph 3, sentence 4, under the heading “History and Description of the Remains”, is corrected by replacing “Muav Cave” with “site AZ A:13:0007.”

In the Federal Register (78 FR 21407, April 10, 2013), column 3, paragraph 1, sentence 1, under the heading “History and Description of the Remains”, is corrected by replacing “Muav Cave” with “site AZ A:13:0007.”

Additional Requestors and Disposition

Lineal descendants or representatives of any Indian tribe or Native Hawaiian organization not identified in this notice that wish to request transfer of control of these human remains and associated funerary objects should submit a written request with information in support of the request to Christine Lehnertz, Superintendent, Grand Canyon National Park, P.O. Box 129, Grand Canyon, AZ 86023, telephone (928) 638-7945, email chris_lehnertz@nps.gov, by June 2, 2017. After that date, if no additional requestors have come forward, transfer of control of the human remains and associated funerary objects to the Havasupai Tribe of the Havasupai Reservation, Arizona; Hualapai Indian Tribe of the Hualapai Indian Reservation, Arizona; Kaibab Band of Paiute Indians of the Kaibab Indian Reservation, Arizona; Las Vegas Tribe of Paiute Indians of the Las Vegas Indian Colony, Nevada; Moapa Band of Paiute Indians of the Moapa River Indian Reservation, Nevada; and Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)) (“The Tribes”) may proceed.

Dated: March 1, 2017.
Melanie O'Brien,
Manager, National NAGPRA Program.

[FR Doc. 2017-08860 Filed 5-2-17; 8:45 am]

BILLING CODE 4312-52-P